DEPARTMENT OF HOMELAND SECURITY

Federal Emergency Management Agency

[Docket ID FEMA-2015-0006]

Guidelines for Implementing Executive Order 11988, Floodplain Management, and Executive Order 13690, Establishing a Federal Flood Risk Management Standard and a Process for Further Soliciting and Considering Stakeholder Input

AGENCY: Federal Emergency Management Agency, DHS.

ACTION: Notice.

SUMMARY: This notice serves to inform the public that the Department of the Interior held a meeting of the interagency Water Resources Council on Thursday, October 8, 2015, in the John Muir Conference Room, 1849 C St. NW., Washington, DC 20240 at 10 a.m. EDT to consider the recommendations of the Mitigation Framework Leadership Group and vote on the issuance of revised “Guidelines for Implementing Executive Order 11988, Floodplain Management, and Executive Order 13690, Establishing a Federal Flood Risk Management Standard and a Process for Further Soliciting and Considering Stakeholder Input.”

The Water Resources Council voted unanimously to accept the recommendations of the Mitigation Framework Leadership Group and issued Guidelines for Implementing Executive Order 11988, Floodplain Management, and Executive Order 13690, Establishing a Federal Flood Risk Management Standard and a Process for Further Soliciting and Considering Stakeholder Input, effective October 8, 2015.

DATES: Effective Date: October 8, 2015. Please consult the individual agency responsible for a program with questions regarding their time frames and processes for updating their implementing procedures for Executive Order 11988.

FOR FURTHER INFORMATION CONTACT: Roy Wright, Deputy Associate Administrator, Federal Insurance and Mitigation Administration, Department of Homeland Security, Federal Emergency Management Agency, 500 C Street SW., Washington, DC 20472, (202) 646-2781.

SUPPLEMENTARY INFORMATION: On January 30, 2015, the President signed Executive Order 13690, Establishing a Federal Flood Risk Management Standard and a Process for Further Soliciting and Considering Stakeholder Input, which amended Executive Order 11988, Floodplain Management, issued in 1977. Consistent with the President's direction, the Federal Emergency Management Agency, as Chair of the Mitigation Framework Leadership Group, published for public comment in the Federal Register Draft Guidelines to provide guidance to agencies on the implementation of Executive Orders 13690 and 11988 (80 FR 6530, February 5, 2015). After an extension, the public comment period lasted 90 days, during which Federal Emergency Management Agency and other members of the Mitigation Framework Leadership Group held eight in-person public listening sessions across the country and one public webinar, to ensure input from stakeholders and the public.

This notice serves to inform the public that the Department of the Interior held a meeting of the interagency Water Resources Council on Thursday, October 8, 2015, in the John Muir Conference Room, 1849 C St. NW., Washington, DC 20240 at 10 a.m. EDT to consider the recommendations of the Mitigation Framework Leadership Group and vote on the issuance of revised “Guidelines for Implementing Executive Order 11988, Floodplain Management, and Executive Order 13690, Establishing a Federal Flood Risk Management Standard and a Process for Further Soliciting and Considering Stakeholder Input.”

The Water Resources Council voted unanimously to accept the recommendations of the Mitigation Framework Leadership Group and issued Guidelines for Implementing Executive Order 11988, Floodplain Management, and Executive Order 13690, Establishing a Federal Flood Risk Management Standard and a Process for Further Soliciting and Considering Stakeholder Input, effective October 8, 2015.

The Implementing Guidelines are in the docket for this Notice on www.regulations.gov, under Docket ID FEMA-2015-0006.

Authority: Executive Order 11988, Floodplain Management, as amended.

Dated: October 15, 2015.
Roy E. Wright,
Deputy Associate Administrator, Federal Insurance and Mitigation Administration, Department of Homeland Security, Federal Emergency Management Agency.

[FR Doc. 2015-26839 Filed 10-21-15; 8:45 am]

BILLING CODE 9110-12-P